ENVIRONMENTAL PROTECTION AGENCY
[ER-FRL-6647-8]
Environmental Impact Statements; Notice of Availability

Responsible Agency: Office of Federal Activities, General Information (202) 260-5073 or (202) 260-5075.

Weekly receipt of Environmental Impact Statements
Filed January 19, 2004, through January 23, 2004
Pursuant to 40 CFR 1506.9.
EIS No. 040025, DRAFT EIS, USN, MS, Purchase of Land in Hancock County, Mississippi, for a Naval Special Operations Forces Training Range, To Improve Riverine and Jungle Training Available, John C. Stennis Space Center, Hancock County, MS, Comment Period Ends: March 15, 2004, Contact: Richard Davis (843) 820-5587.
EIS No. 040026, FINAL EIS, AFS, WY, Medicine Bow National Forest Revised Draft Land and Resource Management Plan, Implementation, Albany, Carbon and Laramie Counties, WY, Wait Period Ends: March 1, 2004, Contact: Mary Peterson (307) 745-2300.
EIS No. 040027, DRAFT EIS, IBR, NB, CO, WY, Programmatic EIS—Platte River Recovery Implementation Program, Assessing Alternatives, Cooperative, Endangered Species Recovery Program, The Four Target Species are Whooping Crane, Interior Least Tern, Piping Plover and Pallid Sturgeon, NB, WY and CO, Comment Period Ends: April 2, 2004, Contact: Curt Brown (303) 445-2096.

This document is available on the Internet at: http://www.platteriver.org.

EIS No. 040028, DRAFT EIS, FHW, PA, U.S. 202, Section ES1 Improvements Project, To Relieve Traffic Congestion and Improve the Corridor, Funding and U.S. Army COE Section 404 Permit, Delaware and Chester Counties, PA, Comment Period Ends: April 9, 2004, Contact: James A. Cheatham (717) 221-3461.
EIS No. 040029, FINAL SUPPLEMENT, AFS, CA, NV, Sierra Nevada Forest Plan Amendment Project, Implementation, several counties, CA and NV, Wait Period Ends: March 1, 2004, Contact: Kathleen Morse (707) 562-8822.
EIS No. 040030, FINAL EIS, AFS, AL, Alabama National Forests Revised Land and Resource Management Plan, Implementation, Bankhead National Forest, Lawrence, Winston and Franklin Counties, AL, Wait Period Ends: March 1, 2004, Contact: Felicia Humphrey (334) 832-4470.

This document is available on the Internet at: http://www.southenregion.fs.fed.us/planning/sap/sap-docs/shtm.

EIS No. 040031, FINAL EIS, AFS, VA, KY, WV, Jefferson National Forest Revised Land and Resource Management Plan, Implementation, Mount Rogers National Recreation Area, Clinch, Glenwood, New Castle, and New River Valley Rangers Districts, VA, WV and KY, Wait Period: March 1, 2004, Contact: Nancy Ross (540) 265-5172.
EIS No. 040032, DRAFT EIS, AFS, CO, WY, Southern Rockies Canada Lynx Amendment, Incorporating Management Direction for Canada Lynx Habitat by Amending Land and Resource Management Plans for Arapaho-Roosevett, Pike-San Isabel, Grand Mesa-Uncompahgre-Gunnison, San Juan, Rio Grande and Medicine Bow-Routt National Forests, Implementation, C0 and WY, Comment Period Ends: April 29, 2004, Contact: Lois Poppert (559) 359-7023.

This document is available on the Internet at: http://www.fs.fed.us/r2/lynx.

EIS No. 040033, DRAFT EIS, UAF, WV, Aircraft Conversion for the 167th Air Wing (167 AW) of the West Virginia Air National Guard, Converting C-13OH Transport Aircraft to the Larges C-5 Transport Aircraft, Acquisition of Land via Lease, and Construction of Facilities on existing and acquired Parcel, Berkely County, WV, Comment Period Ends: March 15, 2004, Contact: Lt. Col. Tammy Mitwik (301) 836-8636.
EIS No. 040034, FINAL EIS, IBR, CA, Programmatic EIS—Environmental Water Account Project, Water Management Strategy to Protect the At-Risk Native Delta-Dependent Fish Species and Water Supply Improvements, U.S. Fish and Wildlife Service Endangered Species Act Section 7 and U.S. Army Corps Section 10 Permits Issuance, CA, Wait Period Ends: March 1, 2004, Contact: Sammie Cervantes (916) 978-5104.
EIS No. 040035, FINAL EIS, FHW, PA, Mon/Fayette Transportation Project, Improvements from PA-51 to I-376 in Monroeville and Pittsburgh, Funding, US Coast Guard Bridge Permit and U.S. Army COE Section 404 Permit Issuance, Allegheny County, PA, Wait Period Ends: April 06, 2004, Contact: Karyn E. Vandervoort (717) 221-2276.
EIS No. 040036, FINAL EIS, FRC, FL, Tractebel Calypso Pipeline Project, Natural Gas Transportation Service for 832,000 dekatherms/day to South Florida, Construction and Operation, Right-of-Way Grant and U.S. Army COE Section 10 and 404 Permits Issuance, Exclusive Economic Zone (EEZ) with the Bahamas, Fort Lauderdale, Broward County, FL, Wait Period Ends: March 1, 2004, Contact: Thomas Russo (202) 502-8371.

This document is available on the Internet at: http://www.ferc.gov.

EIS No. 040037, FINAL EIS, AFS, CO, North Fork of the South Platte and the South Platte Rivers, Wild and Scenic River Study, To Determine their Suitability for Inclusion into the National Wild and Scenic Rivers System, Pike and San Isabel National Forests, Comache and Cimarron National Grasslands, Douglas, Jefferson, Park and Teller Counties, CO, Wait Period Ends: April 2, 2004, Contact: John Hill (719) 553-1414.
EIS No. 040038, FINAL EIS, AFS, TN, Cherokee National Forest Revised Land and Resource Management Plan, Implementation, Carter, Cocke, Greene, Johnson, McMinn, Monroe, Polk, Sullivan and Unicoi, TN, Wait Period Ends: March 1, 2004, Contact: Robert T. Jacobs (404) 347-4177.
EIS No. 040039, FINAL EIS, AFS, SC, Sumter National Forest Revised Land and Resource Management Plan, Implementation, Oconee, Chester, Fairfield, Laurens, Newberry, Union-Abbeville, Edgefield, Greenwood, McCormick and Saluda Counties, SC, Wait Period Ends: March 1, 2004, Contact: Jerome Thomas (803) 561-4000.

This document is available on the Internet at: http://www.fs.fed.us/r8/fms.

EIS No. 040040, DRAFT SUPPLEMENT, NOA, FL, MS, TX, AL, LA, Reef Fish Management Plan Amendment 22, To Set Red Snapper Sustainable Fisheries Act Targets and Thresholds, Set a Rebuilding Plan, and Establish Bycatch Reporting Methodologies for the Reef Fish Fishery, Gulf of Mexico, Comment Period Ends: March 15, 2004, Contact: Dr. Roy E. Crabtree (301) 713-1622.
EIS No. 040041, DRAFT EIS, HUD, NY, Generic EIS—World Trade Center Memorial and Redevelopment Plan, To Remember, Rebuild and Renew what was lost on September 11, 2001, Construction in the Borough of Manhattan, New Year County, NY, Comment Period Ends: March 15, 2004, Contact: William H. Kelley (212) 962-2300.

This document is available on the Internet at: http://www.renewnyc.com/plan_des_dev/frm_ comments.asp.

EIS No. 040042, FINAL EIS, NRC, NY, Generic—License Renewal for R.E. Ginna Nuclear Power Plant, Supplement 14, NUREG-1437, Implementation, Wayne County, NY, Wait Period Ends: March 1, 2004, Contact: Robert Schaaf (301) 415-1312.
This document is available on the Internet at: http://www.nrc.gov/reading-rm.html.

EIS No. 040043, FINAL EIS, AFS, GA, Chattahoochee-Oconee National Forests Revised Land and Resource Management Plan, Implementation, several Counties, GA, Wait Period Ends: March 1, 2004, Contact: Robert T. Jacob (404) 347-4177.

This document is available on the Internet at: http://www.fs.fed.us/conf.

Amended Notices
EIS No. 030501, DRAFT EIS, IBR, CA, Lake Berryessa Visitor Services Plan, Future Use and Operation, Solano Project Lake Berryessa, Napa County, CA, Comment Period Ends: March 22, 2004, Contact: Stephen Rodgers (707) 966-2111.

Revision of Federal Register Notice Published on 11/7/2003: CEQ Comment Period Ending 2/4/2004 has been Extended to 3/22/2004.

EIS No. 040001, DRAFT EIS, BLM, CA, King Range National Conservation Area (KRNCA) Resource Management Plan, Implementation, Humboldt and Mendocino Counties, CA, Comment Period Ends: April 16, 2004, Contact: Lynda J. Roush (707) 825-2300.

Revision of Federal Register Notice Published FR 1-16-04, Correction to Web site Address: http://www.ca.blm.gov/arcata/.

EIS No. 040002, DRAFT EIS, BLM, AK, Alpine Satellite Development Plan, Proposal to Construct and Operate Five Oil Production Pads, Associated Well, Roads, Airstrips, Pipelines and Powerlines, Northeast Corner of the National Petroleum Reserve-Alaska, Colville River Delta, North Slope Borough, AK, Comment Period Ends: March 1, 2004, Contact: James H. Ducker (907) 271-3130.

Revision of Federal Register Notice Published FR-01-16-04, Correction Web site Address: http://www.alpine-satellites-eis.com.

EIS No. 040021, DRAFT SUPPLEMENT, NOA, HI, GU, AS, Pelagic Fisheries of the Western Pacific Region, Fishery Management Plan, Regulatory Amendment, Management Measures to Implement New Technologies for the Western Pacific Pelagic Longline Fisheries, Hawaii, American Samoa, Guam and Commonwealth of the Northern Mariana Island, Comment Period Ends: February 23, 2004, Contact: Alvin Katekaru (808) 973-2937.

Revision of Federal Register Notice Published on 1/23/2004: Correction to Web site Address, it should be: http//swr.nmfs.noaa.gov/pir/, and Correction to Wavier Granted Under § 1506.10(d) to Alternative Procedures Granted by CEQ Under § 1502.9(c)(4).

Dated: January 27, 2004.
Ken Mittelholtz,
Environmental Protection Specialist, Office of Federal Activities.

[FR Doc. 04-2008 Filed 1-29-04; 8:45 am]
BILLING CODE 6560-50-P